DEPARTMENT OF COMMERCE

National Oceanic and Atmospheric Administration

RIN 0648-XF919

Western Pacific Fishery Management Council; Public Meeting

AGENCY: National Marine Fisheries Service (NMFS), National Oceanic and Atmospheric Administration (NOAA), Commerce.

ACTION: Notice of a public meeting.

SUMMARY: The Western Pacific Fishery Management Council (Council) will hold an Archipelagic Plan Team (APT) meeting to discuss and make recommendations on fishery management issues in the Western Pacific Region.

DATES: The APT will meet on Friday, January 26, 2018, between 8:30 a.m. and 5 p.m. Hawaii Standard Time.

For specific times and agendas, see SUPPLEMENTARY INFORMATION.

ADDRESSES: The APT meeting will be held at the Council office, 1164 Bishop St. Suite 1400, Honolulu, HI 96813 and by teleconference and webinar. The teleconference will be conducted by telephone and by web. The teleconference numbers are U.S. toll-free: 1-888-482-3560 or International Access: +1 647 723-3959, and Access Code: 5228220. The webinar can be accessed at: https://wprfmc.webex.com/join/info.wpcouncilnoaa.gov.

FOR FURTHER INFORMATION CONTACT: Kitty M. Simonds, Executive Director, Western Pacific Fishery Management Council; telephone: (808) 522-8220.

SUPPLEMENTARY INFORMATION: Public comment periods will be provided in the agenda. The order in which agenda items are addressed may change. The meetings will run as late as necessary to complete scheduled business.

Schedule and Agenda for the APT Meeting

Friday, January 26, 2018, 8:30 a.m.-5 p.m.

1. Welcome and Introductions

2. Approval of draft agenda and assignment of rapporteurs

3. Scoping: Non-Fishing Impacts to Essential Fish Habitat (EFH)

4. Update on Ecosystem Component Species Amendment

5. Public Comment

6. Other Business

7. Discussion and Recommendations

8. Break Out Groups

A. Refinement of Precious Corals EFH

B. Monitoring Ecosystem Components and Species in Need of Conservation and Management

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: January 8, 2018.
Tracey L. Thompson,
Acting Deputy Director, Office of Sustainable Fisheries, National Marine Fisheries Service.

[FR Doc. 2018-00373 Filed 1-10-18; 8:45 am]

BILLING CODE 3510-22-P